NUCLEAR REGULATORY COMMISSION

Sunshine Act Meeting

Date: Weeks of May 29, June 5, 12, 19, 26, July 3, 2006.

Place: Commissioners' Conference Room, 11555 Rockville Pike, Rockville, Maryland.

Status: Public and closed.

Matters To Be considered:

Week of May 29, 2006

Wednesday, May 31, 2006—

12:55 p.m. Affirmation Session (Public Meeting) (Tentative)

a. Andrew Siemaszko, Docket No. IA-05-021, unpublished Licensing Board Order (Dec. 22, 2006) (Tentative)

1 p.m. Discussion of Security Issues (Closed-Ex. 1)

Week of June 5, 2006—Tentative

Wednesday, June 7, 2006—

9 a.m. Discussion of Security Issues (Closed-Ex. 1 & 3)

Week of June 12, 2006—Tentative

There are no meetings scheduled for the Week of June 12, 2006.

Week of June 19, 2006—Tentative

There are no meetings scheduled for the Week of June 19, 2006.

Week of June 26, 2006—Tentative

There are no meetings scheduled for the Week of June 26, 2006.

Week of July 3, 2006—Tentative

There are no meetings scheduled for the week of July 3, 2006.

* * * * *

Additional Information

The Affirmation of “Andrew Siemaszko, Docket No. IA-05-021, unpublished Licensing Board order (Dec. 22, 2005)” which was tentatively scheduled on Thursday, May 25, 2006, at 9:50 a.m. has been rescheduled tentatively on Wednesday, May 31, 2006 at 12:55 p.m.

* * * * *

The schedule for Commission meetings is subject to change on short notice. To verify the status of meetings call (recording)—(301) 415-1292. Contact person for more information: Michelle Schroll, (301) 415-1662.

* * * * *

The NRC Commission Meeting Schedule can be found on the Internet at: http://www.nrc.gov/what-we-do/policy-making/schedule.html.

* * * * *

The NRC provides reasonable accommodation to individuals with disabilities where appropriate. If you need a reasonable accommodation to participate in these public meetings, or need this meeting notice or the transcript or other information from the public meetings in another format (e.g., braille, large print), please notify the NRC's Disability Program Coordinator, Deborah Chan, at 301-415-7041, TDD: 301-415-2100; or by e-mail at DLC@nrc.gov. Determinations on requests for reasonable accommodation will be made on a case-by-case basis.

* * * * *

This notice is distributed by mail to several hundred subscribers; if you no longer wish to receive it, or would like to be added to the distribution, please contact the Office of the Secretary, Washington, DC 20555 (301-415-1969). In addition, distribution of this meeting notice over the Internet system is available. If you are interested in receiving this Commission meeting schedule electronically, please send an electronic message to dkw@nrc.gov.

Dated: May 25, 2006
R. Michelle Schroll,
Office of the Secretary.

[FR Doc. 06-5002 Filed 5-26-06; 10:09 am]

BILLING CODE 7590-01-M